DEPARTMENT OF JUSTICE

Antitrust Division

Notice Pursuant to the National Cooperative Research and Production Act of 1993—Dimensional Metrology Standards Consortium, Inc.

Notice is hereby given that, on September 21, 2006, pursuant to Section 6(a) of the National Cooperative Research and Production Act of 1993, 15 U.S.C. 4301 et seq. (“the Act”), Dimensional Metrology Standards Consortium, Inc. (“DMSC, Inc.”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Dimensional Metrology Standards Consortium, Inc., Arlington, TX. The nature and scope of DMSC, Inc.'s standards development activities will focus on the development of standards in the field of dimensional metrology, and the interoperability of standards related to such technology. This includes not only metrology-specific standards but also related standards that are used by metrologists to perform jobs such as product and tolerance exchange. In general, DMSC, Inc. will not operate in the field of hardware standards.

Patricia A. Brink,
Deputy Director of Operations, Antitrust Division.

[FR Doc. 06-8948 Filed 10-27-06; 8:45 am]

BILLING CODE 4410-11-M